DEPARTMENT OF HOMELAND SECURITY

Coast Guard

[Docket No. USCG-2008-1004]

Great Lakes Regional Waterways Management Forum

AGENCY: Coast Guard, DHS.

ACTION: Notice of meeting.

SUMMARY: The Great Lakes Regional Waterways Management Forum will hold a meeting in Cleveland, OH, to discuss various waterways management issues. Potential agenda items may include agency updates from the Canadian Coast Guard Central and Arctic Region, Army Corps of Engineers, Transport Canada Marine Safety and the U.S. Coast Guard, Ballast Water Program Updates, Dry Cargo Residue Rulemaking Updates, Overview of the Ice Conference and Optimizing our Aids to Navigation systems. The meeting will be open to the public. The specific agenda is still under development. Additional topics of discussion are solicited from the public. Comments must be submitted on or before October 10, 2008, to be considered at the meeting.

DATES: The meeting will be held on Thursday, October 23, 2008, from 8:30 a.m. to 12 p.m.

ADDRESSES: The meeting will be held at the Cleveland Downtown Marriott, 127 Public Square, Cleveland, OH. Any written comments and materials should be submitted to Commander (dpw-1), Ninth Coast Guard District, 1240 E. 9th Street, Room 2069, Cleveland, OH 44199. This notice may be viewed online at http://www.regulations.gov, docket USCG-2008-1004.

FOR FURTHER INFORMATION CONTACT: LT Ann Henkelman (dpw-1), Ninth Coast Guard District, 1240 E. 9th Street, Room 2069, Cleveland, OH 44199, telephone (216) 902-6288. Persons with disabilities requiring assistance to attend this meeting should contact LT Henkelman.

SUPPLEMENTARY INFORMATION: The Great Lakes Waterways Management Forum identifies and resolves waterways management issues that involve the Great Lakes region. The forum is chaired by the Commander, Ninth Coast Guard District; the Ontario Regional Director, Transport Canada, Marine Safety; the Commander, Army Corps of Engineers Great Lakes and Ohio River Division; and the Canadian Coast Guard Director of the Central and Arctic Region and meets once a year to assess the Great Lakes region, assign priorities to areas of concern, and identify issues for resolution.

Dated: October 2, 2008.
Dave R. Callahan,
Captain, U.S. Coast Guard, Chief of Staff, Ninth Coast Guard District, Cleveland, Ohio.

[FR Doc. E8-24330 Filed 10-10-08; 8:45 am]

BILLING CODE 4910-15-P